DEPARTMENT OF ENERGY

Federal Energy Regulatory Commission

[Project No. 2280-018]

Seneca Generation, LLC; Notice of Environmental Site Review

On May 6, 2014, Commission staff will hold an environmental site review for the Kinzua Pumped Storage Project No. 2280-018. The project is located at the United States Army Corps of Engineers' Kinzua Dam, and within the United States Forest Service Allegheny National Forest, adjacent to the Allegheny River and the Allegheny Reservoir near the City of Warren, in Warren County, Pennsylvania. The purpose of the site review is to introduce the Commission's contractor team to the project. All participants should be prepared to provide their own transportation.

All participants should meet Tuesday, May 6, 2014, at 8:45 a.m. in the Kinzua Dam Information Center parking lot in Warren, Pennsylvania. The information center is located below Kinzua Dam adjacent to the Allegheny River.

All participants planning to attend the site visit should RSVP to Kathy French (908) 239-3974, KFrench@LSPower.com, or Tom Groff (814) 723-2195, homas.groff@naes.com.

If you have any question please contact Gaylord Hoisington at (202) 502-6032 or gaylord.hoisington@ferc.gov.

Dated: April 9, 2014.
Kimberly D. Bose,
Secretary.

[FR Doc. 2014-08496 Filed 4-14-14; 8:45 am]

BILLING CODE 6717-01-P